RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Annual Earnings Questionnaire for Annuitants in Last Pre-Retirement Non-Railroad Employment.

(2) Form(s) submitted: G-19L.

(3) OMB Number: 3220-0179.

(4) Expiration date of current OMB clearance: February 28, 2006.

(5) Type of request: Revision of a currently approved collection.

(6) Respondents: Individuals or households.

(7) Estimated annual number of respondents: 300.

(8) Total annual responses: 300.

(9) Total annual reporting hours: 75.

(10) Collection description: Under section 2(e)(3) of the Railroad Retirement Act, an annuity is not payable for any month in which the beneficiary works for a railroad or earns more than the prescribed amounts. The collection obtains earnings information needed by the Railroad Retirement Board to determine possible reductions in annuities because of earnings.

Additional Information or Comments: Copies of the forms and supporting documents can be obtained from Charles Mierzwa, the agency clearance officer (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. 05-22908 Filed 11-17-05; 8:45 am]

BILLING CODE 7905-01-P